DEPARTMENT OF THE INTERIOR

Fish and Wildlife Service

[FWS-R1-ES-2020-N127; FXES11140100000-201-FF01E00000]

Proposed Habitat Conservation Plan and Draft Environmental Assessment for the Tumwater East Distribution Center and Tumwater West Conservation Site, Thurston County, Washington

AGENCY: Fish and Wildlife Service, Interior.

ACTION: Notice of availability; request for comments.

SUMMARY: We, the U.S. Fish and Wildlife Service, received an application from Puget Western, Incorporated, for an incidental take permit pursuant to the Endangered Species Act. The application includes a habitat conservation plan (HCP), which describes the actions the applicant will take to minimize and mitigate the impacts of the taking of the threatened Olympia subspecies of the Mazama pocket gopher that may occur incidental to the otherwise lawful commercial development of applicant-owned land in the City of Tumwater, Thurston County, Washington. We also announce the availability of a draft environmental assessment addressing the HCP and proposed permit. We invite comments from all interested parties.

DATES: To ensure consideration, please submit written comments by November 25, 2020.

ADDRESSES: To request further information or submit written comments, please use one of the following methods, and note that your information request or comments are in reference to “Tumwater Distribution Center HCP”:

• Internet: You may view or download copies of the HCP and draft EA and obtain additional information at http://www.fws.gov/wafwo/.

• Email: wfwocomments@fws.gov. Include “Tumwater Distribution Center HCP” in the subject line of the message.

• U.S. Mail: Public Comments Processing, Attn: FWS-R1-ES-2020-N127; U.S. Fish and Wildlife Service; Washington Fish and Wildlife Office, 510 Desmond Drive SE, Suite 102, Lacey, WA 98503.

FOR FURTHER INFORMATION CONTACT: Tim Romanski, Conservation Planning and Hydropower Branch Manager, Washington Fish and Wildlife Office (see ADDRESSES); telephone: 360-753-5823. If you use a telecommunications device for the deaf, please call the Federal Relay Service at 800-877-8339.

SUPPLEMENTARY INFORMATION: We, the U.S. Fish and Wildlife Service (Service), received an application from Puget Western, Incorporated, including its wholly owned subsidiaries Tumwater West Conservation Site LLC, Tumwater East I-5 Distribution Center LLC, and Tumwater East I-5 Commercial LLC (applicant) for an incidental take permit (ITP) pursuant to section 10(a)(1)(B) of the Endangered Species Act of 1973, as amended (ESA; 16 U.S.C. 1531 et seq.). The applicant requests an ITP that would authorize “take” of the threatened Olympia subspecies of the Mazama pocket gopher (Thomomys mazama pugetensis; hereafter referred to as the Olympia pocket gopher) incidental to otherwise lawful commercial warehouse construction and associated infrastructure improvements for stormwater and transportation safety in Thurston County, Washington. The application includes a habitat conservation plan (HCP), which describes the actions the applicant will take to minimize and mitigate the impacts of the taking on the covered species. The Service also announces the availability of a draft environmental assessment (EA) addressing the HCP and proposed ITP. As the EA was developed prior to the Council on Environmental Quality's issuance of updated regulations implementing NEPA which went into effect on September 14, 2020 (40 CFR 1506.13), the EA was completed under the previous regulations in the interest of time and efficiency. We invite comments from all interested parties regarding the ITP application, including the HCP and draft EA.

Background

Section 9 of the ESA prohibits “take” of fish and wildlife species listed as endangered or threatened. Under the ESA, the term “take” means to harass, harm, pursue, hunt, shoot, wound, kill, trap, capture, or collect, or to attempt to engage in any such conduct (16 U.S.C. 1532(19)). The term “harm,” as defined in our regulations, includes significant habitat modification or degradation that results in death or injury to listed species by significantly impairing essential behavioral patterns, including breeding, feeding, or sheltering (50 CFR 17.3). The term “harass” is defined in our regulations as to carry out actions that create the likelihood of injury to listed species to such an extent as to significantly disrupt normal behavioral patterns, which include, but are not limited to, breeding, feeding, or sheltering (50 CFR 17.3).

Section 10(a)(1)(B) of the ESA contains provisions that authorize the Service to issue permits to non-Federal entities for the take of endangered and threatened species caused by otherwise lawful activities, provided the following criteria are met: (1) The taking will be incidental; (2) the applicant will, to the maximum extent practicable, minimize and mitigate the impact of such taking; (3) the applicant will ensure that adequate funding for the plan will be provided; (4) the taking will not appreciably reduce the likelihood of the survival and recovery of the species in the wild; and (5) the applicant will carry out any other measures that the Service may require as being necessary or appropriate for the purposes of the HCP. Regulations governing permits for endangered and threatened species are found at 50 CFR 17.22 and 17.32, respectively.

Proposed Action

In this case, the applicant is requesting an ITP with a 20-year term that would authorize take of the Olympia pocket gopher incidental to otherwise lawful construction of commercial warehouse(s) and associated infrastructure improvements for stormwater and transportation safety. The application includes an HCP that describes the actions the applicant will take to minimize and mitigate the impacts of the taking on the covered species.

The applicant is proposing development activities and conservation site measures on approximately 151.2 acres of land. Development activities include construction of a warehouse distribution and commercial center and associated infrastructure improvements for stormwater and transportation safety. The area covered under the applicant's HCP consists of a project development site totaling 83.7 acres located southwest of the intersection of 93rd Ave. SW and Kimmie St. SW in the City of Tumwater, Thurston County, Washington. Portions of the approximately 79-acre project site and the 4.7 acres of adjacent roads are suitable for and/or occupied by the Olympia pocket gopher. Take of the Olympia pocket gopher would occur on approximately 22 acres of occupied habitat. Impacts to suitable habitat may result in additional impacts to Olympia pocket gopher if that habitat becomes occupied before construction. The applicant's HCP will provide offsetting mitigation for impacts to the Olympia pocket gopher at the 67.5-acre Tumwater West property. The Service proposes to issue the requested 20-year permit based on the applicant's commitment to implement the HCP, if permit issuance criteria are met.

National Environmental Policy Act Compliance

The proposed issuance of a permit is a Federal action that triggers the need for compliance with the National Environmental Policy Act of 1969, as amended (NEPA; 42 U.S.C. 4321 et seq.). Pursuant to the requirements of NEPA, we have prepared a draft EA to analyze the environmental impacts of a reasonable range of alternatives to the proposed Federal permit action. As the EA was developed prior to the Council on Environmental Quality's issuance of updated regulations implementing NEPA which went into effect on September 14, 2020 (40 CFR 1506.13), the EA was completed under the previous regulations in the interest of time and efficiency.

Alternatives analyzed in the EA include a no-action alternative and the proposed alternative. Under the no-action alternative, the proposed Federal action of issuing the permit would not proceed. Because there is no way to avoid all impacts to the listed species at the project site, the commercial development would not be constructed under the no-action alternative. The proposed alternative is implementation of the HCP and issuance of the requested 20-year permit, as described above.

Public Comments

You may submit your comments and materials by one of the methods listed in the ADDRESSES section. We specifically request information, views, and opinions from interested parties regarding our proposed Federal action, including on the adequacy of the HCP pursuant to the requirements for permits at 50 CFR parts 13 and 17 and the adequacy of the draft EA pursuant to the requirements of NEPA.

Public Availability of Comments

All comments and materials we receive become part of the public record associated with this action. Before including your address, phone number, email address, or other personally identifiable information in your comments, you should be aware that your entire comment—including your personally identifiable information—may be made publicly available at any time. While you can ask us in your comment to withhold your personally identifiable information from public review, we cannot guarantee that we will be able to do so. All submissions from organizations or businesses, and from individuals identifying themselves as representatives or officials of organizations or businesses, will be made available for public disclosure in their entirety.

Next Steps

After public review and completion of the EA, we will determine whether the proposed action warrants a finding of no significant impact or whether an environmental impact statement should be prepared. We will evaluate the permit application, associated documents, and any comments received, to determine whether the permit application meets the requirements of section 10(a)(1)(B) of the ESA. We will also evaluate whether issuance of the requested section 10(a)(1)(B) permit would comply with section 7 of the ESA by conducting an intra-Service section 7 consultation under section 7(a)(2) of the ESA on anticipated ITP actions. The final NEPA and permit determinations will not be completed until after the end of the 30-day comment period and will fully consider all comments received during the comment period. If we determine that all requirements are met, we will issue an incidental take permit under section 10(a)(1)(B) of the ESA to the applicant for the take of the covered species, incidental to otherwise lawful covered activities.

Authority

We provide this notice in accordance with the requirements of section 10 of the ESA (16 U.S.C. 1531 et seq.) and NEPA (42 U.S.C. 4321 et seq.) and their implementing regulations (50 CFR 17.22 and 40 CFR 1506.6, respectively).

Robyn Thorson,
Regional Director, U.S. Fish and Wildlife Service.

[FR Doc. 2020-23591 Filed 10-23-20; 8:45 am]

BILLING CODE 4333-15-P